ENVIRONMENTAL PROTECTION AGENCY

40 CFR Part 261

[EPA-R06-RCRA-2010-0066; SW FRL-9231-4]

Hazardous Waste Management System; Identification and Listing of Hazardous Waste; Withdrawal of Direct Final Exclusion

AGENCY: Environmental Protection Agency (EPA).

ACTION: Withdrawal of direct final exclusion.

SUMMARY: Because EPA received adverse comments, we are withdrawing the direct final exclusion for ExxonMobil Refining and Supply Company—Beaumont Refinery, published on October 1, 2010.

DATES: Effective November 24, 2010, EPA withdraws the direct final exclusion published at 75 FR 60632, on October 1, 2010.

FOR FURTHER INFORMATION CONTACT: Michelle Peace, Environmental Protection Agency, Multimedia Planning and Permitting Division, RCRA Branch, Mail Code: 6PD-C, 1445 Ross Avenue, Dallas, TX 75202, by calling (214) 665-7430 or by e-mail at peace.michelle@epa.gov.

SUPPLEMENTARY INFORMATION: Because EPA received adverse comments, we are withdrawing the direct final exclusion for ExxonMobil Refining and Supply Company—Beaumont Refinery, published on October 1, 2010, 75 FR 60632. We stated that in the direct final rule that if we received adverse comment by November 1, 2010, the direct final rule would not take effect and we would publish a timely withdrawal in the Federal Register. We subsequently received adverse comment on that direct final rule. We will address the comments submitted in a subsequent final action which will be based on the parallel proposed rule also published on October 1, 2010, 75 FR 60689. As stated in the direct final rule and the parallel proposed rule, we will not institute a second comment period on this action.

Dated: November 16, 2010.
Bill Luthans,
Acting Director, Multimedia Planning and Permitting Division.

Accordingly, the amendments to the rule published on October 1, 2010, 75 FR 60632 are withdrawn as of November 24, 2010 until an action making the exclusion final is published.

[FR Doc. 2010-29630 Filed 11-23-10; 8:45 am]

BILLING CODE 6560-50-P